DEPARTMENT OF THE INTERIOR

Bureau of Indian Affairs

Submission of Information Collections to the Office of Management and Budget for Review Under the Paperwork Reduction Act

AGENCY: Bureau of Indian Affairs, Interior.

ACTION: Notice.

SUMMARY: This notice announces the Information Collection Requests for the Grants Application for Community Colleges and the Grant Tribal Colleges and Universities Annual Report Form has been submitted to the Office of Management and Budget for approval and renewal under provision of the Paperwork Reduction Act. You may submit comments on this information collection. An agency may not conduct or sponsor, and a person is not required to respond to a collection of information unless it displays a currently valid OMB control number. The OMB control numbers for these collections are 1076-0018 and 1076-0105.

DATES: Please submit your comments and suggestions on or before January 29, 2003.

ADDRESSES: Send comments or suggestions directly to the Office of Management and Budget, Office of Regulatory Affairs, Attention: Desk Officer for the Department of the Interior, 725 17th Street, NW., Washington, DC 20503.

Send a copy of your comments to Garry R. Martin, Bureau of Indian Affairs, Office of Indian Education Programs, 1849 C Street, NW., MS 3512-MIB, Washington, DC 20240-0001. Telephone number 202-208-3478.

SUPPLEMENTARY INFORMATION:

I. Abstract

These information collections are necessary to assess the need for tribally controlled community college programs as required by 25 CFR part 41 and Public Law 95-471. A 60-day request for public comments on this information collection was published in the Federal Register on Wednesday, August 28, 2002 (67 FR 55271). No comments were received. Copies of the collection of information may be obtained by contacting the Bureau's clearance officer at 202-208-2574.

II. Request for Comments

Comments are invited on: (a) Whether the collection of information is necessary for the proper performance of the functions of the agency, including whether the information will have practical utility; (b) the accuracy of the agency's estimate of the burden (hours and cost) of the collection of information, including the validity of the methodology and assumptions used; (c) ways to enhance the quality, utility and clarity of the information to be collected; and (d) ways to minimize the burden of the collection of the information on the respondents, including through the use of automated collection techniques or other forms of information technology.

If you wish your name or address withheld from public review of comments, you must state this prominently at the beginning of your comments. We will honor your request as allowed by law.

The Office of Management and Budget (OMB) has up to 60 days to approve or disapprove the information collection but may respond after 30 days; therefore, comments submitted in response to this notice should be submitted to OMB within 30 days in order to assure their maximum consideration.

All comments received are subject to public inspection. If you wish to have your name and address withheld from the public, you must state this prominently at the beginning of your comment. The requested information to be withheld will be honored to the extent of the law.

III. Data

Title: Grants Application for Community Colleges Form.

OMB approval number: 1076-0018.

Frequency: Annually.

Description of respondents: Tribal Boards, Tribal College Administrators.

Estimated completion time: 1 hour.

Annual responses: 25.

Annual Burden hours: 25 hours.

Title: Grants, Tribal Colleges and Universities Annual Report Form.

OMB approval number: 1076-0105.

Frequency: Annually.

Description of respondents: Tribal Boards, Tribal College Administrators.

Estimated completion time: 3 hours.

Annual responses: 25.

Annual Burden hours: 75 hours.

Dated: November 18, 2002.
Neal A. McCaleb,
Assistant Secretary—Indian Affairs.

[FR Doc. 02-32949 Filed 12-27-02; 8:45 am]

BILLING CODE 4310-6W-P